COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add service(s) to the Procurement List that will be furnished by nonprofit agencies employing persons who are blind or have other severe disabilities, and deletes product(s) and service(s) previously furnished by such agencies.

DATES: Comments must be received on or before: February 6, 2022.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Service(s)

Service Type: Facility Operations Contract Services

Mandatory for: U.S. Customs & Border Protection, Oroville Border Patrol Station, Oroville, WA

Designated Source of Supply: Bona Fide Conglomerate, Inc., El Cajon, CA

Contracting Activity: U.S. CUSTOMS AND BORDER PROTECTION, BORDER ENFORCEMENT CTR DIV

Service Type: Acquisition Support Services

Mandatory for: U.S. Coast Guard, Surface Forces Logistics Center, Baltimore, MD, Norfolk, VA and Oakland, CA

Designated Source of Supply: Skookum Educational Programs, Bremerton, WA

Contracting Activity: U.S. COAST GUARD, SFLC PROCUREMENT BRANCH 3(00040)

Deletions

The following product(s) and service(s) are proposed for deletion from the Procurement List:

Product(s)

NSN(s)—Product Name(s):

8465-00-262-5237—Lanyard, Pistol, White

8465-00-965-1705—Lanyard, Pistol, Olive Green

Designated Source of Supply: Work, Incorporated, Dorchester, MA

Contracting Activity: DLA TROOP SUPPORT, PHILADELPHIA, PA

Service(s)

Service Type: Administrative Services

Mandatory for: Internal Revenue Service Mailroom: 1919 Smith Street, Houston, TX

Designated Source of Supply: Lighthouse for the Blind of Houston, Houston, TX

Contracting Activity: TREASURY, DEPARTMENT OF THE, DEPT OF TREAS/

Service Type: Medical Transcription

Mandatory for: Federal Bureau of Prisons, Greenville, IL

Designated Source of Supply: Lighthouse for the Blind of Houston, Houston, TX

Contracting Activity: FEDERAL PRISON SYSTEM, TERMINAL ISLAND, FCI

Service Type: Supply and Warehousing Service

Mandatory for: Supply Store Operations: Nuclear Regulatory Commission, Rockville, MD

Designated Source of Supply: Blind Industries & Services of Maryland, Baltimore, MD

Contracting Activity: NUCLEAR REGULATORY COMMISSION, OFFICE OF ADMINISTRATION

Michael R. Jurkowski,
Acting Director, Business Operations.

[FR Doc. 2022-00099 Filed 1-6-22; 8:45 am]

BILLING CODE 6353-01-P